DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period December 20, 2002—January 22, 2003
Firm name | Address | Date petition accepted | Product
Mauston Tool Corporation | 1015 Parker Drive, Mauston, WI 53948 | 12/20/02 | Injection molds for plastics.
Nu-Way Industries, Inc. | 555 Howard Avenue, Des Plaines, Il 60018 | 12/20/02 | Outdoor metal enclosures used to house cellular telecommunications equipment.
ChipBlaster, Inc. | P. O. Box 1057, Meadville, PA 16335 | 01/02/03 | High pressure coolant machinery.
Dan River, Inc. | P. O. Box 261, Danville, VA 24543. | 01/08/03 | Fabric for the apparel, home fashion and automobile industries.
Fielding Manufacturing | 780 Wellington Avenue, Cranston, RI 02910 | 01/08/03 | Miniature zinc die castings, and plastic injection molded parts.
Moldmaster Engineering, Inc. | 187 Newell Street, Pittsburgh, MA 01202 | 01/15/03 | Injection molds for plastic and plastic parts.
Harbor Furniture Manufacturing, Inc, dba Table Topics | 27418 Highway 98E, Elberta, AL 36530 | 01/15/03 | Table tops for institutional and restaurant furniture.
Lisa Marie, Inc. | P. O. Box 48001, Chignik, AK 99548 | 01/21/03 | Salmon.
Wainwright Industries, Inc. | 17 Cermak Boulevard, St. Peters, MO 63376 | 01/21/03 | Metal stampings, fixtures for tools and custom machining.
Bethel Furniture Stock, Inc. | 515 West Bethel Road | 01/22/03 | Wooden furniture parts-seats, panels, etc.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: January 27, 2003.
Anthony J. Meyer,
Coordinator, Trade Adjustment and Technical Assistance.

[FR Doc. 03-2486 Filed 2-3-03; 8:45 am]

BILLING CODE 3510-24-P